DEPARTMENT OF LABOR

Employment and Training Administration

[TA-W-65,445]

ASML, Boise, ID; Notice of Termination of Investigation

Pursuant to Section 221 of the Trade Act of 1974, as amended, an investigation was initiated on March 2, 2009 in response to a petition filed on behalf of workers of ASML, Boise, Idaho. Workers perform on-site services in support of semiconductor manufacturers.

The petitioner has requested that the petition be withdrawn. Consequently, the investigation has been terminated.

Signed at Washington, DC, this 3rd day of April 2009.
Linda G. Poole,
Certifying Officer, Division of Trade Adjustment Assistance.

[FR Doc. E9-10580 Filed 5-6-09; 8:45 am]

BILLING CODE 4510-FN-P